DEPARTMENT OF COMMERCE

National Oceanic and Atmospheric Administration

Agency Information Collection Activities; Submission to the Office of Management and Budget (OMB) for Review and Approval; Comment Request; Reporting Requirements for Commercial Fisheries Authorization Under Section 118 of the Marine Mammal Protection Act

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 19, 2022 during a 60-day comment period. This notice allows for an additional 30 days for public comments.

Agency: National Oceanic and Atmospheric Administration (NOAA), Commerce.

Title: Reporting Requirements for Commercial Fisheries Authorization under Section 118 of the Marine Mammal Protection Act.

OMB Control Number: 0648-0292.

Form Number(s): None.

Type of Request: Regular submission (extension of currently approved collection).

Number of Respondents: 200.

Average Hours per Response: 15 minutes.

Total Annual Burden Hours: 50.

Needs and Uses: This request is for an extension of a currently approved information collection and is sponsored by National Marine Fisheries Service Office of Protected Resources.

Reporting injury to and/or mortalities of marine mammals incidental to commercial fishing activities is mandated under section 118 of the Marine Mammal Protection Act. This information is required to determine the impacts of commercial fishing on marine mammal populations. This information is also used to classify commercial fisheries into Categories I, II, or III on the annual Marine Mammal Protection Act List of Fisheries. Participants in the first two categories must be authorized to take marine mammals, while those in Category III are exempt from that requirement. All three categories must report injuries or mortalities to the National Marine Fisheries Service using the OMB approved form.

Minor administrative changes are being made to the form to clarify the instructions for completing the “Description of the mortality/injury incident” (DESCRIPTION OF UNKNOWN SPECIES OR CIRCUMSTANCES OF MORTALITY/INJURY INCIDENT field) and the “Coast Guard document number” (COAST GUARD DOCUMENT NO. or VESSEL'S STATE REGISTRATION NO field).

Affected Public: Business or other for-profit organizations; Individuals or households; State, local, or tribal government.

Frequency: On occasion.

Respondent's Obligation: Mandatory.

Legal Authority: 16 U.S.C. 1387 Sec. 118.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0292.

Sheleen Dumas,
Department PRA Clearance Officer, Office of the Chief Information Officer, Commerce Department.

[FR Doc. 2022-22728 Filed 10-19-22; 8:45 am]

BILLING CODE 3510-22-P